DEPARTMENT OF TRANSPORTATION

Federal Aviation Administration

14 CFR Part 39

[Docket No. FAA-2010-0780; Directorate Identifier 2009-SW-68-AD; Amendment 39-16486; AD 2010-22-07]

RIN 2120-AA64

Airworthiness Directives; Eurocopter Deutschland GmbH Model MBB-BK 117 C-2 Helicopters

AGENCY: Federal Aviation Administration, DOT.

ACTION: Final rule.

SUMMARY: This amendment supersedes an existing airworthiness directive (AD) for the Eurocopter Deutschland GmbH (ECD) Model MBB BK 117 C-2 helicopters. This amendment results from a mandatory continuing airworthiness information (MCAI) AD issued by the European Aviation Safety Agency (EASA), which is the Technical Agent for the Member States of the European Community. The MCAI AD states there was an in-flight incident in which a dynamic weight broke off the control lever leading to considerable vibrations. A visual inspection revealed that the threaded bolt of the control lever had broken off. The actions specified by this AD are intended to prevent separation of dynamic weights, severe vibration, and subsequent loss of control of the helicopter.

DATES: Effective December 3, 2010.

The incorporation by reference of certain publications listed in the regulations is approved by the Director of the Federal Register as of December 3, 2010.

ADDRESSES: You may get the service information identified in this AD from American Eurocopter Corporation, 2701 Forum Drive, Grand Prairie, Texas 75053-4005, telephone (972) 641-3460, fax (972) 641-3527.

Examining the Docket: You may examine the AD docket on the Internet at http://www.regulations.gov, or in person at the Docket Operations Office, West Building Ground Floor, Room W12-140, 1200 New Jersey Avenue, SE., Washington, DC, between 9 a.m. and 5 p.m., Monday through Friday, except Federal holidays.

FOR FURTHER INFORMATION CONTACT: DOT/FAA Southwest Region, Sharon Miles, ASW-111, Aviation Safety Engineer, Rotorcraft Directorate, Regulations and Policy Group, 2601 Meacham Blvd., ASW-111, Fort Worth, Texas 76137, telephone (817) 222-5122, fax (817) 222-5961.

SUPPLEMENTARY INFORMATION:

Discussion

A proposal to amend 14 CFR Part 39 by superseding AD 2006-26-51, Amendment 39 14961 (72 FR 13679, March 23, 2007) for the specified ECD model helicopters was published in the Federal Register on August 11, 2010 (75 FR 48617). AD 2006-26-51 requires actions intended to address an unsafe condition on the Model MBB-BK 117 C-2 helicopters. Since we issued AD 2006-26-51, the manufacturer has modified the control lever and dynamic weights, which when installed on the helicopter will constitute terminating action for the requirements in AD 2006-26-51.

EASA, which is the technical agent for the Member States of the European Community, has issued EASA AD No. 2007-0237, dated August 31, 2007, to correct an unsafe condition for the Model MBB-BK 117 C-2 helicopters. The MCAI AD states: “EASA was informed by the manufacturer of an in-flight incident in which a dynamic weight broke off the control lever subsequently leading to considerable vibrations. A visual inspection revealed that the threaded bolt of the control lever had broken off.”

You may obtain further information by examining the MCAI AD and service information in the AD docket.

Related Service Information

ECD has issued ECD Alert Service Bulletin MBB BK117 C-2-64A-002, Revision 2, dated August 6, 2007. The actions described in the MCAI AD are intended to correct the same unsafe condition as that identified in the service information.

FAA's Evaluation and Unsafe Condition Determination

This helicopter has been approved by the aviation authority of the Federal Republic of Germany and is approved for operation in the United States. Pursuant to our bilateral agreement with the Federal Republic of Germany, EASA, their Technical Agent, has notified us of the unsafe condition described in the MCAI AD. We are issuing this AD because we evaluated all information provided by EASA and determined the unsafe condition exists and is likely to exist or develop on other helicopters of this same type design.

Differences Between the AD and the MCAI AD

We refer to flight hours as hours time-in-service. We do not refer to a date of October 31, 2007, for replacing the levers because the date has passed.

Comments

Interested persons have been afforded an opportunity to participate in the making of this amendment. No comments were received on the proposal or the FAA's determination of the cost to the public. We have determined that air safety and the public interest require the adoption of the rule as proposed.

Cost of Compliance

We estimate that this AD will affect 41 helicopters of U.S. registry. We also estimate that it will take about 20 work-hours per helicopter to inspect and replace the tail rotor control lever. The average labor rate is $85 per work-hour, and required parts will cost about $10,316 per helicopter. Based on these figures, we estimate the total cost of this AD to U.S. operators to be $492,656, or $12,016 per helicopter, assuming the control lever is replaced on the entire fleet.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, under the authority delegated to me by the Administrator, the FAA amends 14 CFR Part 39 as follows:

PART 39—AIRWORTHINESS DIRECTIVES

1. The authority citation for Part 39 continues to read as follows:

Authority: 49 U.S.C. 106(g), 40113, 44701.

§ 39.13 [Amended]

2. Section 39.13 is amended by removing Amendment 39 14961 (72 FR 13679, March 23, 2007), and by adding a new airworthiness directive (AD), Amendment 39 16486, to read as follows:

2010-22-07 Eurocopter Deutschland GmbH: Amendment 39-16486; Docket No. FAA-2010-0780; Directorate Identifier 2009-SW-68-AD. Supersedes AD 2006-26-51, Amendment 39 14961, Docket No. FAA-2006-26721, Directorate Identifier 2006-SW-28-AD.

Effective Date

(a) This airworthiness directive (AD) becomes effective on December 3, 2010.

Other Affected ADs

(b) This AD supersedes AD 2006-26-51, Amendment 39-14961, Docket No. FAA 2006-26721, Directorate Identifier 2006-SW-28-AD.

Applicability

(c) This AD applies to Model MBB-BK 117 C-2 helicopters with a tail rotor control lever B642M1009103, installed, certificated in any category.

Reason

(d) The mandatory continued airworthiness information (MCAI) AD states: “European Aviation Safety Agency (EASA) was informed by the manufacturer of an in-flight incident in which a dynamic weight broke off the control lever subsequently leading to considerable vibrations. A visual inspection revealed that the threaded bolt of the control lever had broken off.” This AD requires actions that are intended to prevent separation of dynamic weights, severe vibration, and subsequent loss of control of the helicopter.

Actions and Compliance

(e) Before further flight, unless already done, mark the position of the weights, remove the split pins, remove the weights, and visually inspect the tail rotor control lever in the area around the split pin bore for score marks, notching, scratching, or a crack. Inspect by following the Accomplishment Instructions, paragraph 3.A.(1) through 3.A.(3) and Figure 1, of Eurocopter Alert Service Bulletin MBB BK 117 C-2-64A-002, Revision 2, dated August 6, 2007 (ASB).

(1) If done previously, within the next 8 hours time-in-service (TIS) or before reaching 25 hours TIS after the last inspection, and thereafter at intervals not to exceed 8 hours TIS, repeat the visual inspection of the tail rotor control lever as required by paragraph (e) of this AD.

(2) If you find a score mark, a notch, or a scratch that exceeds the maintenance manual limits, or find a crack, before further flight:

(i) Replace the tail rotor control lever with an airworthy tail rotor control lever; and

(ii) Reidentify the tail rotor head, head assembly, and drive system with the new part numbers by following the Accomplishment Instructions, paragraph 3.B.(1) through 3.B.(8) and 3.C.(1) through 3.C.(2), of the ASB.

(f) Within 100 hours TIS, unless already done, replace the control levers and reidentify the tail rotor head, head assembly, and drive system with the new part numbers by following the Accomplishment Instructions, paragraph 3.B.(1) through 3.B.(8) and 3.C.(1) through 3.C.(2), of the ASB.

(g) Replacing the control levers and reidentifying the part numbers is terminating action for the requirements of this AD.

Differences Between the FAA AD and the MCAI AD

(h) We refer to flight hours as hours TIS. We do not refer to a date of October 31, 2007, for replacing the levers because the date has passed.

Other Information

(i) Alternative Methods of Compliance (AMOCs): The Manager, Safety Management Group, ATTN: DOT/FAA Southwest Region, Sharon Miles, ASW-111, Aviation Safety Engineer, Rotorcraft Directorate, Regulations and Policy Group, 2601 Meacham Blvd., Fort Worth, Texas 76137, telephone (817) 222-5122, fax (817) 222 5961, has the authority to approve AMOCs for this AD, if requested, using the procedures found in 14 CFR 39.19.

(j) Special flight permits are prohibited.

Related Information

(k) MCAI EASA Airworthiness Directive No. 2006-0237, dated August 31, 2007, which supersedes EASA Emergency AD 2007-0189-E, dated July 12, 2007, contains related information.

Joint Aircraft System/Component Code

(l) The Joint Aircraft System/Component Code is 6400: Tail rotor system-control lever.

Material Incorporated by Reference

(m) The actions shall be done in accordance with the specified portions of Eurocopter Deutschland GmbH Alert Service Bulletin MBB BK117 C-2-64A-002, Revision 2, dated August 6, 2007. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas, or at the National Archives and Records Administration (NARA). For information on the availability of this material at NARA, call 202-741-6030, or go to: http://www.archives.gov/federal_register/code_of_federal_regulations/ibr_locations.html.

Issued in Fort Worth, Texas, on October 12, 2010.
Kim Smith,
Manager, Rotorcraft Directorate, Aircraft Certification Service.

[FR Doc. 2010-26563 Filed 10-28-10; 8:45 am]

BILLING CODE 4910-13-P